ELECTION ASSISTANCE COMMISSION

Sunshine Act Meeting; Republication

Editorial Note: FR Doc. 04-4809 originally published in the issue of Wednesday, March 3, 2004 at 69 FR 10043. This document is being republished because the agency name was printed and indexed incorrectly. This document is being reprinted in its entirety.

Agency: United States Election Assistance Commission.

* * * * *

Date and Time: Tuesday, March 23, 2004, at 10 a.m.

Place: 1201 Constitution Ave., NW., Washington, DC (EPA East Building, room 1153).

Status: This meeting will be open to the public.

Note: Early arrival: Those attending are advised to arrive early for registration and security check.

Purpose: Organizational plans for the newly established United States Election Assistance Commission.

Person to Contact for Information: Bryan Whitener, Telephone: (202) 694-1095.

DeForest B. Soaries, Jr.,
Chairman, United States Election Assistance Commission.

[FR Doc. 04-4809 Filed 3-5-04; 10:12 am]

Editorial Note: FR Doc. 04-4809 originally published in the issue of Wednesday, March 3, 2004 at 69 FR 10043. This document is being republished because the agency name was printed and indexed incorrectly. This document is being reprinted in its entirety.

[FR Doc. R4-4809 Filed 3-5-04; 8:45 am]

BILLING CODE 1505-01-D